DEPARTMENT OF COMMERCE

National Oceanic and Atmospheric Administration

50 CFR Part 679

[Docket No. 000211040-0040-01; I.D. 070300A]

Fisheries of the Exclusive Economic Zone Off Alaska; Open Access Sector Fishing Vessels Catching Pollock for Processing by the Inshore Component in the Bering Sea

AGENCY: National Marine Fisheries Service (NMFS), National Oceanic and Atmospheric Administration (NOAA), Commerce.

ACTION: Closure.

SUMMARY: NMFS is prohibiting directed fishing for pollock in the Steller sea lion conservation area (SCA) of the Bering Sea and Aleutian Islands management area (BSAI) by “open access” vessels (i.e., those vessels that are not fishing in cooperatives), which are catching pollock for processing by the inshore component. This action is necessary because the interim C season inside the SCA of allocation of pollock total allowable catch (TAC) specified for the “open access” vessels within the SCA will be reached.

DATES: Effective 1200 hrs, Alaska local time (A.l.t.), July 3, 2000, until 1200 hrs, A.l.t., August 20, 2000.

FOR FURTHER INFORMATION CONTACT: Andrew Smoker, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(a)(5)(i)(B)(2), § 679.20 (a)(5)(i)(D)(3), and the revised interim 2000 TAC amounts for pollock in the Bering Sea subarea (65 FR 3892, January 25, 2000; 65 FR 4520, January 28, 2000; and 65 FR 39107, June 23, 2000), the interim C season allocation of TAC specified to the “open access” vessels, not fishing in cooperatives, catching pollock for processing by the inshore component is 2,582 metric tons (mt).

In accordance with § 679.22(a)(11)(iv)(A) and (C)(3) the Administrator, Alaska Region, NMFS (Regional Administrator), has determined that the interim C season allocation of pollock TAC specified to the “open access” vessels for harvest within the SCA will be reached.

Consequently, NMFS is prohibiting directed fishing for pollock in the SCA by “open access” vessels catching pollock for processing by the inshore component, as defined at § 679.22(a)(11)(iv).

Maximum retainable bycatch amounts may be found in the regulations at § 679.20(e) and (f).

Classification

This action responds to the best available information recently obtained from the fishery. It must be implemented immediately in order to prevent exceeding the C season allocation of pollock TAC specified to the “open access” vessels, not fishing in cooperatives, of the inshore pollock component, for harvest within the SCA. A delay in the effective date is impracticable and contrary to the public interest. Further delay would result in noncompliance with reasonable and prudent management measures implemented to promote the recovery of the endangered Steller sea lion. NMFS finds for good cause that the implementation of this action can not be delayed for 30 days. Accordingly, under 5 U.S.C. 553(d), a delay in the effective date is hereby waived.

This action is required by § 679.22 and is exempt from review under E.O. 12866.

Authority: 16 U.S.C. 1801 et seq.

Dated: July 3, 2000.
Bruce C. Morehead,
Acting Director, Office of Sustainable Fisheries, National Marine Fisheries Service.

[FR Doc. 00-17231 Filed 7-3-00; 2:31 pm]

BILLING CODE 3510-22-F